DEPARTMENT OF THE INTERIOR

Bureau of Reclamation

[INT-DES-00-53]

Keechelus Dam Safety of Dams Modification, Yakima Project, Washington

AGENCY: Bureau of Reclamation, Interior.

ACTION: Notice of availability and notice of public hearings for the Keechelus Dam Safety of Dams Modification, Yakima Project, Washington, draft environmental impact statement.

SUMMARY: Pursuant to section 102(2)(C) of the National Environmental Policy Act of 1969, as amended, the Department of the Interior, Bureau of Reclamation (Reclamation), has prepared a draft environmental impact statement (Draft EIS) to examine the impacts of alternatives to correct safety deficiencies identified at Keechelus Dam. Reclamation proposes to modify the existing dam to return full capacity to Keechelus Lake.

The preferred alternative of modifying the dam would provide for the safe operation of Keechelus Dam and also maintain benefits from Keechelus Lake that include meeting existing contractual commitments for storage space for irrigators within the Yakima Project and controlling seasonal downstream flooding.

The DEIS describes and analyzes the impacts of four alternatives that would correct safety deficiencies at Keechelus Dam, as well as the No Action Alternative. This Draft EIS assesses the impacts of the interim restriction, implemented in November 1998 to protect public safety, as the No Action Alternative.

DATES: Written comments on the Draft EIS must be received no later than February 9, 2001, at the address listed in ADDRESSES section below.

On Thursday, January 18, 2001, two public hearings will be held to accept oral comments on the Draft EIS in Ellensburg, Washington. Each public hearing will be proceeded by an informal open house where exhibits can be viewed and discussed with agency managers and staff. The first will begin with an informal open house from 12:30 to 2 p.m., followed by the formal public hearing from 2 to 4:00 p.m. The second will begin with a 5:30 to 7 p.m. informal open house, followed by a formal public hearing from 7 to 9 p.m. The facilities are physically accessible to people with disabilities.

Please contact Mr. Kaumheimer (see below) for sign language interpretation for the hearing impaired or other auxiliary aids by January 10, 2001, so arrangements can be made.

ADDRESSES: The open houses and public hearings will be held at the Ellensburg Inn, 1700 Canyon Road, Ellensburg, Washington, telephone (509) 925-9801.

Written comments on the Draft EIS should be submitted to Mr. Dave Kaumheimer, UCA-1600, Bureau of Reclamation, Upper Columbia Area Office, 1917 Marsh Road, Yakima, WA 98901; or by fax (509) 454-5611.

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

See SUPPLEMENTARY INFORMATION section for locations where copies of the DEIS are available for public review and inspection.

FOR FURTHER INFORMATION CONTACT: Mr. Dave Kaumheimer at (509) 575-5848, extension 232. Those wishing to obtain a copy of the Draft EIS in the form of a printed document or on compact disk (CD-ROM with reader included) or a Summary of the Draft EIS may contact Mr. Kaumheimer.

SUPPLEMENTARY INFORMATION: Keechelus Dam was completed in 1917 as part of Reclamation's Yakima Project, storing Yakima River water in central Washington for irrigation of part of 443,400 acres of prime farmland and for flood control. Recent investigations have shown that the wooden railroad trestle, used to deliver earth material and rocks while constructing the dam, has deteriorated, forming vertical paths where earthen materials within the dam can move, leaving voids in the dam. Examination of the seepage problems indicates the material is internally unstable and is subject to failure, with an associated potential for loss of life and property downstream. Because of the deficiencies identified, Keechelus Lake has been operated at a restricted pool elevation 7 feet below normal full pool elevation 2,517 feet since November 1998, with increased monitoring and surveillance at the dam.

The Safety of Dams Act of 1978 (Pub. L. 95-578) and amendments of 1984 (Pub. L. 98-404) authorize the Secretary of the Interior to analyze existing Reclamation dams for changes in the state-of-the-art criteria and additional hydrologic and seismic data developed since the dams were constructed. For dams where a safety concern exists, the Secretary is authorized to modify the structure to ensure its continued safety.

Section 3 of the Safety of Dams Act states that construction authorized by the act shall be for dam safety and not for specific purposes of providing additional conservation storage capacity or developing benefits over and above those provided by the original dams and reservoirs.

Review and Inspection of the DEIS

Copies of the DEIS are available for public review and inspection at the following locations:

• Bureau of Reclamation, U.S. Department of the Interior, Room 7455, 18th and C Streets, NW, Washington, D.C. 20240.

• Bureau of Reclamation, Denver Office Library, Denver Federal Center, Building 67, Room 167, Denver, Colorado 80225.

• Bureau of Reclamation, Pacific Northwest Regional Office, 1150 North Curtis Road, Suite 100, Boise, Idaho 83706-1234.

• Bureau of Reclamation, Upper Columbia Area Office, 1917 Marsh Road, Yakima, Washington 98901.

Libraries

Carpenter Memorial Library, 302 N Pennsylvania Ave, Cle Elum, WA 98922; (509) 674-2313.

Central Washington University Library, 700 E 8th Ave, Ellensburg WA 98926; (509) 963-1777.

Ellensburg Public Library, 209 N Ruby, Ellensburg WA 98926; (509) 962-7250.

Yakima Valley Regional Library, 102 N 3rd St, Yakima WA 98901; (509) 452-8541.

University of Washington Campus, Suzzallo Library, Government Publications Division, Seattle WA 98195; (206) 543-1937

Internet

The DEIS is also available on the Internet at: http://www.pn.usbr.gov/

Hearing Process Information

Requests to make oral comments at the public hearings may be made at each hearing. Comments will be recorded by a court reporter. Speakers will be called in the order of their requests. In the interest of available time, each speaker will be asked to limit oral comments to five (5) minutes. Longer comments should be summarized at the public hearing and submitted in writing either at the public hearing or identified as hearing comments and mailed to be received by Mr. Kaumheimer no later than February 9, 2001 (the end of the public comment period).

Dated: December 4, 2000.
J. William McDonald,
Regional Director, Pacific Northwest Region.

[FR Doc. 00-31407 Filed 12-8-00; 8:45 am]

BILLING CODE 4310-MN-P